FEDERAL MARITIME COMMISSION

Ocean Transportation Intermediary License; Applicants

Notice is hereby given that the following applicants have filed with the Federal Maritime Commission an application for a license as a Non-Vessel-Operating Common Carrier (NVO) and/or Ocean Freight Forwarder (OFF)—Ocean Transportation Intermediary (OTI) pursuant to section 19 of the Shipping Act of 1984 as amended (46 U.S.C. Chapter 409 and 46 CFR part 515). Notice is also hereby given of the filing of applications to amend an existing OTI license or the Qualifying Individual (QI) for a license.

Interested persons may contact the Office of Transportation Intermediaries, Federal Maritime Commission, Washington, DC 20573, by telephone at (202) 523-5843 or by e-mail at OTI@fmc.gov.

Dunavant Logistics Group, LLC (NVO & OFF), 3797 New Getwell Road, Memphis, TN 38118, Officers: Richard W. McDuffie, Manager, (Qualifying Individual), William B. Dunavant, III, Chief Manager, Application Type: Business Structure Change.

Em Agent-Export, LLC dba Cargo Logistics Source (NVO & OFF), 1411 NW 84th Avenue, Doral, FL 33129, Officer: Elizabeth R. Monserrate, Manager, (Qualifying Individual), Application Type: New NVO & OFF License.

Ever Line Logistics Inc (NVO & OFF), 147-35 Farmers Blvd., Suite 208, Jamaica, NY 11434, Officer: Caihong Yang, President/Secretary, (Qualifying Individual), Application Type: New NVO & OFF License.

Honor Worldwide Logistics LLC (NVO & OFF), 5200 Hollister, #101, Houston, TX 77040, Officers: John A. Onorato, President, (Qualifying Individual), Thomas J. Springer, Vice President, Application Type: New NVO & OFF.

International First Service USA, Inc. dba Global Wine Logistics, Inc. (NVO & OFF), 197 Route 18 South, Suite 3000, East Brunswick, NJ 08816, Officer: Anita McNeil, President/Secretary/Treasurer/Director, (Qualifying Individual), Application Type: New NVO & OFF License.

Joma Logistics Inc. (NVO & OFF), 12137 Rhea Drive, #D, Plainfield, IL 60585, Officers: Nie Xu, Director, (Qualifying Individual), Kai Tu, CEO, Application Type: New NVO & OFF License.

Madi Auto Sales and Shipping, Inc (NVO & OFF), 3691 S.R. #580, Suite A, Oldsmar, FL 34677, Officers: Nancy V. Dent, Secretary, (Qualifying Individual), Mohammad A. Madi, President, Application Type: Add NVO Service.

Nano Express Corp. (NVO,) 5765 N. Lincoln Avenue, Suite 17, Chicago, IL 60659, Officers: Min K. Won, COO, (Qualifying Individual), Otgo M. Ochir, President/Secretary/Treasurer, Application Type: New NVO License.

Oceanic Transport, LLC. (NVO), 211 W. 135th Street, Los Angeles, CA 90061, Officers: John Ma, Manager/President, (Qualifying Individual), Yen Ma-Chan, Member, Application Type: New NVO License.

Peters & May USA, Inc. dba Compass Marine (NVO & OFF), 127 North Walnut Street, Suite 100, Itasca, IL 60143, Officers: Anna M. Colavitti, Vice President, (Qualifying Individual), David Holley, President, Application Type: QI Change.

Prime Van Lines, Inc. (OFF). 297 Getty Avenue, Paterson, NJ 07503. Officers: Robert Lonek, Secretary, (Qualifying Individual), Betty Bendavid, President, Application Type: New OFF License.

Sales & Exports Worldwide Corp. (NVO & OFF), 719 Bradfield Road, Houston, TX 77060, Officers: Roberto M. Mora, President/Director, (Qualifying Individual), Manuela Flores, Director, Application Type: New NVO & OFF License.

Schaefer Trans Inc. (NVO), 580 Atlantic Avenue, East Rockaway, NY 11518, Officers: Ana M. Lanfranco, Vice President, (Qualifying Individual), Paul Hoeck, Director/President, Application Type: New NVO License.

TMT Logistics Inc (NVO & OFF), 2612 Sanford Avenue, Sanford, FL 32773, Officers: Edwin A. Calderon, President/Director/Secretary, (Qualifying Individual), Tania M. Calderon, Vice President, Application Type: New NVO & OFF License.

Worldwide Cargo Express, Inc. (OFF), 76 W. 13775 S., Suite 8, Draper, UT 84020, Officers: Dana M. Ferguson, President/Secretary, (Qualifying Individual), Necia G. Clark-Mantle, CEO, Application Type: New OFF License.

Zai Cargo, Inc. dba Zai Ocean Services dba Zai Container Line (NVO & OFF), 6324 NW 97th Avenue, Doral, FL 33178, Officer: Horacio Zapata, President/Treasurer/VP/Secretary, (Qualifying Individual), Application Type: New NVO & OFF License.

Dated: May 27, 2011.
Rachel E. Dickon,
Assistant Secretary.

[FR Doc. 2011-13732 Filed 6-1-11; 8:45 am]

BILLING CODE 6730-01-P